DEPARTMENT OF TRANSPORTATION

Federal Railroad Administration

[Docket No. FRA-2015-0007-N-15]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for emergency processing under the Paperwork Reduction Act of 1995. FRA requests that OMB authorize the collection of information identified below by May 26, 2015, for a period of 180 days.

FOR FURTHER INFORMATION CONTACT: A copy of this individual ICR, with applicable supporting documentation, may be obtained by telephoning FRA's Office of Safety Clearance Officer: Robert Brogan (tel. (202) 493-6292) or FRA's Office of Administration Clearance Officer: Kimberly Toone (tel. (202) 493-6132) (these numbers are not toll-free); or by contacting Mr. Brogan via facsimile at (202) 493-6216 or Ms. Toone via facsimile at (202) 493-6497, or via email by contacting Mr. Brogan at Robert.Brogan@dot.gov; or by contacting Ms. Toone at Kim.Toone@dot.gov. Comments and questions about the ICR identified below should be directed to OMB's Office of Information and Regulatory Affairs, Attn: FRA OMB Desk Officer.

SUPPLEMENTARY INFORMATION: FRA is issuing Emergency Order No. 31 (EO or Order) to require that the National Railroad Passenger Corporation (Amtrak) take actions to control passenger train speed at certain locations on main line track in the Northeast Corridor (as defined by 49 U.S.C. 24905(c)(1)(A)). Amtrak must immediately implement code changes to its Automatic Train Control (ATC) System to enforce the passenger train speed limit ahead of the curve at Frankford Junction in Philadelphia, Pennsylvania, where a fatal accident occurred on May 12, 2015. Amtrak must also identify all other curves on the Northeast Corridor where there is a significant reduction (more than 20 miles per hour (mph)) from the maximum authorized approach speed to those curves for passenger trains. Amtrak must then develop and comply with an FRA-approved action plan to modify its existing ATC System or other signal systems (or take alternative operational actions) to enable enforcement of passenger train speeds at the identified curves. Amtrak must also install additional wayside passenger train speed limit signage at appropriate locations on its Northeast Corridor right-of-way.

Title: FRA Emergency Order No. 31, Notice No.1

Reporting Burden:

Emergency order No. 31-item: | Respondent universe | Total annual responses | Average time per response | Total annual burden hours
(1) Amtrak survey of Northeast Corridor (NEC) main line track system to create list identifying each main track curve where there is a reduction of more than 20 mph from the maximum authorized speed to that curve | 1 Railroad | 1 list | 32 hours | 32 hours
(2) Development and submission of Amtrak Action Plan to FRA | 1 Railroad | 1 action plan | 80 hours | 80 hours
(3) Installation of Additional Wayside Signs throughout NEC, particularly along curve locations, to alert engineers and conductors of maximum authorized train speed | 1 Railroad | 186 NEC wayside signs | 15.4839 minutes per sign | 48 hours
—Notice by Amtrak to FRA of Installation of Signs along NEC designated in its | 1 Railroad | 6 notices | 15 minutes | 2 hours
(4) Relief Petition to FRA to take action not in Accordance with this Emergency Order | 1 Railroad | 1 petition request | 80 hours | 80 hours

Form Number(s): N/A.

Respondent Universe: 1 Railroad.

Frequency of Submission: One-time; on occasion.

Total Estimated Responses: 195.

Total Estimated Annual Burden: 242 hours.

Status: Emergency Review.

Pursuant to 44 U.S.C. 3507(a) and 5 CFR 320.5(b), 1320.8(b)(3)(vi), FRA informs all interested parties that it may not conduct or sponsor, and a respondent is not required to respond to, a collection of information unless it displays a currently valid OMB control number.

Authority: 44 U.S.C. 3501-3520.

Rebecca Pennington,
Chief Financial Officer.

[FR Doc. 2015-12776 Filed 5-27-15; 8:45 am]

BILLING CODE 4910-06-P